FEDERAL MINE SAFETY AND HEALTH REVIEW COMMISSION

Temporary Suspension of In-Person Hearings

AGENCY: Federal Mine Safety and Health Review Commission.

ACTION: Notice.

SUMMARY: The Federal Mine Safety and Health Review Commission (the “Commission”) is temporarily suspending all in-person hearings, and settlement judge conferences and mediations.

DATES: Applicable: March 18, 2019.

FOR FURTHER INFORMATION CONTACT: Sarah Stewart, Deputy General Counsel, Office of the General Counsel, Federal Mine Safety and Health Review Commission, at (202) 434-9935.

SUPPLEMENTARY INFORMATION: Pursuant to guidance issued by the Office of Management and Budget (M-20-16) and in view of the risks presented by the novel coronavirus COVID-19, the Commission's Office of the Chief Administrative Law Judges (“OCALJ”) is, effective March 18, 2019, suspending all in-person hearings, and settlement judge conferences and mediations until Friday, April 30, 2020.

With the consent of the parties and in coordination with the presiding administrative law judge, hearings may continue by telephone or other means. Similarly, settlement judge conferences and mediations may be held by telephone or by other means. If the parties agree that an in-person evidentiary hearing is not needed, cases may also be presented for a decision on the record.

The parties will be notified if the hearing needs to be rescheduled. OCALJ will reassess the risks presented by in-person hearings prior to April 30, 2020, and issue a subsequent order informing the public as to whether the suspension of in-person hearings will continue.

The presiding administrative law judge may be contacted with questions regarding this notice.

Authority: 30 U.S.C. 823.

Dated: March 18, 2020.
Sarah L. Stewart,
Deputy General Counsel, Federal Mine Safety and Health Review Commission.

[FR Doc. 2020-06113 Filed 3-23-20; 8:45 am]

BILLING CODE 6735-01-P